DEPARTMENT OF TRANSPORTATION

Coast Guard

33 CFR Parts 179, 181 and 183

[USCG-2003-14359]

Small Entities Review

AGENCY: Coast Guard, DOT.

ACTION: Request for comments.

SUMMARY: The Coast Guard is conducting a review of certain regulations and invites public comment on how best to lessen the impact of these rules on small entities. The regulations under review address notification of defects in boats, manufacturer certification and identification requirements, and safety standards for boats and associated equipment.

DATES: Comments and related material must reach the Docket Management Facility on or before June 12, 2003.

ADDRESSES: To make sure that your comments and related material are not entered more than once in the docket, please submit them by only one of the following means:

(1) By mail to the Docket Management Facility (USCG-2003-14359), U.S. Department of Transportation, room PL-401, 400 Seventh Street SW., Washington, DC 20590-0001.

(2) By delivery to room PL-401 on the Plaza level of the Nassif Building, 400 Seventh Street SW., Washington, DC, between 9 a.m. and 5 p.m., Monday through Friday, except Federal holidays. The telephone number is (202) 366-9329.

(3) By fax to the Docket Management Facility at (202) 493-2251.

(4) Electronically through the Web site for the Docket Management System at http://dms.dot.gov.

The Docket Management Facility maintains the public docket for this notice. Comments and material received from the public, as well as documents mentioned in this preamble as being available in the docket, will become part of this docket and will be available for inspection or copying at room PL-401 on the Plaza level of the Nassif Building, 400 Seventh Street SW., Washington, DC, between 9 a.m. and 5 p.m., Monday through Friday, except Federal holidays. You may also find this docket on the Internet at http://dms.dot.gov.

Anyone is able to search the electronic form of all comments received into any of our dockets by the name of the individual submitting the comment (or signing the comment, if submitted on behalf of an association, business, labor union, etc.). You may review the Department of Transportation's complete Privacy Act Statement in the Federal Register published on April 11, 2000, (65 FR 19477-78) or you may visit http://dms.dot.gov.

FOR FURTHER INFORMATION CONTACT: If you have questions on this notice, call Alston Colihan, Office of Boating Safety, Coast Guard, telephone (202) 267-0981. If you have questions on viewing or submitting material to the docket, call Dorothy Beard, Chief, Dockets, Department of Transportation, telephone (202) 366-5149.

SUPPLEMENTARY INFORMATION:

Request for Comments

We encourage you to respond to this notice. Submit comments and related material that tell us how 33 CFR part 179, 181, or 183 affects your small entity, and how you think that impact can be lessened. See “Background and Purpose,” below, for more information on the small entities review process and the factors the Coast Guard must consider in conducting that review.

Please include your name and address, identify the docket number for this notice (USCG-2003-14359), and give the reason for each comment. You may submit your comments and material by mail, hand delivery, fax, or electronic means to the Docket Management Facility at the address under ADDRESSES; but please submit your comments and material by only one means. If you submit them by mail or hand delivery, submit them in an unbound format, no larger than 8½ by 11 inches, suitable for copying and electronic filing. If you submit them by mail and would like to know that they reached the Facility, please enclose a stamped, self-addressed postcard or envelope. We will consider all comments and material received during the comment period. We may change this proposed rule in view of them.

Background and Purpose

Section 610 of the Regulatory Flexibility Act (5 U.S.C. 601 et seq.) requires the Coast Guard and other rulemaking agencies to review existing rules for their economic impact on small entities. The Coast Guard reviews the small entities impact of its existing rules pursuant to a plan adopted by the Department of Transportation (DOT) and described in Appendix D of DOT's semiannual regulatory agenda (see 67 FR 74799, December 9, 2002 for the latest publication of the agenda).

Where our 610 Analysis Year shows that a rule has a “significant economic impact on a substantial number of small entities” (SEIOSNOSE), we begin a 610 Review Year. During the 610 Review Year, we determine whether and how the SEIOSNOSE can be lessened. In making that determination, the Regulatory Flexibility Act requires us to consider the:

• Continued need for the rule.

• Nature of public complaints or comments received concerning the rule.

• Rule's complexity.

• Extent to which the rule overlaps, duplicates, or conflicts with other Federal rules and, to the extent feasible, with State and local governmental rules.

• Length of time since the rule has been evaluated or the degree to which technology, economic conditions, or other factors have changed in the area affected by the rule.

In the fall 2002 agenda, we concluded the 610 Analysis Year for several rules and determined that 33 CFR parts 179, 181, and 183 significantly affect enough small entities to warrant a 610 Review Year for the three parts. Section 610 requires us to notify you that the Review Year is underway and to solicit your input, which we will consider in conducting our review.

In the fall 2003 agenda, we will announce the results of that review. We may determine that no further action seems possible or advisable at this time, in which case we will explain the basis for that determination. Or, we may determine that a rulemaking project is needed, to delete or amend the existing rule in a way that will lessen its small-entity impact. We will indicate whether a rulemaking project will begin promptly or be scheduled at a later date.

Dated: February 4, 2003.
Harvey E. Johnson,
Rear Admiral, Coast Guard, Director of Operations Policy.

[FR Doc. 03-3461 Filed 2-11-03; 8:45 am]

BILLING CODE 4910-15-P